DEPARTMENT OF TRANSPORTATION

National Highway Traffic Safety Administration

Petition for Exemption from the Vehicle Theft Prevention Standard; Volkswagen

AGENCY: National Highway Traffic Safety Administration (NHTSA), U.S. Department of Transportation (DOT).

ACTION: Grant of petition for exemption.

SUMMARY: This document grants in full the Volkswagen Group of America's (VW) petition for exemption of the Audi A4 allroad vehicle line in accordance with § 543.9(c)(2) of 49 CFR part 543, Exemption from the Theft Prevention Standard. This petition is granted, because the agency has determined that the antitheft device to be placed on the line as standard equipment is likely to be as effective in reducing and deterring motor vehicle theft as compliance with the parts-marking requirements of the Theft Prevention Standard (49 CFR part 541).

DATES: The exemption granted by this notice is effective beginning with the 2013 model year.

FOR FURTHER INFORMATION CONTACT: Ms. Carlita Ballard, Office of International Policy, Fuel Economy and Consumer Programs, NHTSA,1200 New Jersey Avenue, SE., West Building, W43-439, Washington, DC 20590. Ms. Ballard's phone number is (202) 366-5222. Her fax number is (202) 493-2990.

SUPPLEMENTARY INFORMATION: In a petition dated August 8, 2011, VW requested an exemption from the parts-marking requirements of the Theft Prevention Standard(49 CFR part 541) for the Audi A4 allroad vehicle line beginning with MY 2013. The petition requested an exemption from parts-marking pursuant to 49 CFR part 543, Exemption from Vehicle Theft Prevention Standard, based on the installation of an antitheft device as standard equipment for an entire vehicle line.

Under § 543.5(a), a manufacturer may petition NHTSA to grant an exemption for one vehicle line per model year. In its petition, VW provided a detailed description and diagram of the identity, design and location of the components of the antitheft device for its new Audi A4 allroad vehicle line. VW will install its passive, transponder-based electronic engine immobilizer antitheft device as standard equipment on its Audi A4 allroad vehicle line. VW stated that its antitheft device is an electronic engine immobilizer which utilizes a transponder ignition key and an alarm system. Key components of the antitheft device will include a passive electronic engine immobilizer, electronic ignition lock, adapted ignition key, engine control unit, electronic steering column lock and an automatic transmission gear box (if available). VW stated that its vehicle line will also include an antitheft alarm system as standard equipment. Specifically, VW stated that when the vehicle is locked, the alarm system monitors and protects the engine compartment, luggage compartment and doors, and when the system is activated, the alarm will trigger if one of the doors, the engine hood or the rear hatch lid are opened. Specifically, VW stated that when any of the protected components within its vehicle enclosure deterrent system are violated, an audible horn signal is emitted and the vehicle's emergency flasher system is activated. VW's submission is considered a complete petition as required by 49 CFR 543.7, in that it meets the general requirements contained in § 543.5 and the specific content requirements of § 543.6.

VW stated that activation occurs when the key fob advanced key system is removed from the car, or when the mechanical ignition key is switched to the OFF position causing lock out of the engine control unit. VW also stated that deactivation of the antitheft system occurs when the mechanical ignition key is switched to the ON position or while the key fob advanced key is located inside the car. VW stated that the key transponder sends a fixed code to the immobilizer control unit, and if the code is identified as the correct code, a variable code is generated in the immobilizer control unit and sent to the transponder. VW further stated that after the electronic steering column is unlocked and there is full authorization for the ignition switch to be on, the engine control unit sends a variable code to the immobilizer control unit, enabling start up of the vehicle. VW believes that the code is undecipherable because a new variable code is generated each time during this secret computing process.

In addressing the specific content requirements of 543.6, VW provided information on the reliability and durability of its proposed device. To ensure reliability and durability of the device, VW stated that it certifies that its antitheft device for the Audi A4 allroad has been tested for compliance to the corporate requirements for electrical and electronic assemblies in motor vehicles related to performance. VW provided a detailed list of the tests conducted (i.e., electrical system temperature stability, mechanical integrity, electrical performance, EMC, environmental compatibility and service life) and believes that the device is reliable and durable since the device complied with its specific requirements for each test. Furthermore, VW stated that after the electronic module is recognized by the key transponder, a pairing between the key and the immobilizer occurs at which point the key can no longer be used for any other immobilizer.

VW stated that the Audi A4 allroad will be a new, small multipurpose passenger vehicle (MPV) line based on the Audi A4 sedan. The Audi A4 allroad has no theft rate history or data available. However, VW provided data on the theft reduction benefits experienced by other vehicle lines installed with immobilizer devices that have already been granted petitions for exemptions by the agency.

VW compared the device proposed for its vehicle line with other devices which NHTSA has determined to be as effective in reducing and deterring motor vehicle theft as would compliance with the parts-marking requirements of the Theft Prevention Standard. VW stated that except for the 2004 MY, the Audi allroad MPV had a lower theft rate than its passenger car counterpart, Audi A6. Specifically, the agency's data show that theft rates for the Audi A6 for MYs 2006-2008 are 1.8143, 1.5437 and 1.4414 respectively. Using an average of 3 MYs' data (2006-2008), the theft rate for the Audi A6 is well below the median at 1.5998. VW also stated that the theft rates for the Audi A4 have been near the median and based on comparison, the Audi A4 allroad is expected to have a lower theft rate. Specifically, the agency's data show that theft rates for the Audi A4 for MYs' 2006-2008 are 1.0203, 1.2892 and 1.1463 respectively. Using an average of 3 MYs' data (2006-2008), the theft rate for the Audi A4 vehicle line is well below the median at 1.1520. VW also provided data from NICB in support of the effectiveness of immobilizer-installed vehicles to reduce thefts. VW stated that according to the National Insurance Crime Bureau (NICB) theft statistics, MY 1997 Ford Mustangs installed with a standard immobilizer showed a 70% reduction in theft rate when compared to MY 1995 Ford Mustangs without an immobilizer.

Based on the evidence submitted by VW, the agency believes that the antitheft device for the Audi A4 allroad vehicle line is likely to be as effective in reducing and deterring motor vehicle theft as compliance with the parts-marking requirements of the Theft Prevention standard (49 CFR part 541).

Pursuant to 49 U.S.C. 33106 and 49 CFR 543.7(b), the agency grants a petition for exemption from the parts-marking requirements of part 541 either in whole or in part, if it determines that, based upon substantial evidence, the standard equipment antitheft device is likely to be as effective in reducing and deterring motor vehicle theft as compliance with the parts marking requirements of part 541. The agency finds that VW has provided adequate reasons for its belief that the antitheft device for the VW Audi A4 allroad vehicle line is likely to be as effective in reducing and deterring motor vehicle theft as compliance with the parts-marking requirements of the Theft Prevention Standard (49 CFR part 541). This conclusion is based on the information VW provided about its device.

The agency concludes that the device will provide the five types of performance listed in § 543.6(a)(3): promoting activation; attracting attention to the efforts of an unauthorized person to enter or move a vehicle by means other than a key; preventing defeat or circumvention of the device by unauthorized persons; preventing operation of the vehicle by unauthorized entrants; and ensuring the reliability and durability of the device.

For the foregoing reasons, the agency hereby grants in full VW's petition for exemption for the VW Audi A4 allroad vehicle line from the parts-marking requirements of 49 CFR Part 541. The agency notes that 49 CFR Part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If VW decides not to use the exemption for this line, it must formally notify the agency. If such a decision is made, the line must be fully marked according to the requirements under 49 CFR 541.5 and 541.6 (marking of major component parts and replacement parts).

NHTSA notes that if VW wishes in the future to modify the device on which this exemption is based, the company may have to submit a petition to modify the exemption. Part 543.7(d) states that a Part 543 exemption applies only to vehicles that belong to a line exempted under this part and equipped with the anti-theft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: September 28, 2011.
Christopher J. Bonanti,
Associate Administrator for Rulemaking.

[FR Doc. 2011-25541 Filed 10-3-11; 8:45 am]

BILLING CODE 4910-59-P